ENVIRONMENTAL PROTECTION AGENCY

[EPA-R05-OAR-2017-0579; FRL-9976-12-Region 5]

Adequacy Status of the Sheboygan County, Wisconsin Area for the Submitted 2008 Ozone Standard Attainment Demonstration for Transportation Conformity Purposes

AGENCY: Environmental Protection Agency (EPA).

ACTION: Notice of finding of adequacy.

SUMMARY: In this notice, the EPA is notifying the public that we find the motor vehicle emissions budgets (MVEBs) for volatile organic compounds (VOCs) and oxides of nitrogen (NOX) in the Sheboygan County, Wisconsin 2008 Ozone Standard nonattainment area adequate for use in transportation conformity determinations. On September 25, 2017, Wisconsin submitted a 2008 Ozone Standard Attainment Demonstration for Sheboygan County, which included the MVEBs for 2017 and 2018. As a result of our finding, this area must use these MVEBs from the submitted Attainment Demonstration for future transportation conformity determinations.

DATES: This finding is applicable April 20, 2018.

FOR FURTHER INFORMATION CONTACT: Michael Leslie, Environmental Engineer, Control Strategies Section (AR-18J), Air Programs Branch, Air and Radiation Division, United States Environmental Protection Agency, Region 5, 77 West Jackson Boulevard, Chicago, Illinois 60604, (312) 353-6680, leslie.michael@epa.gov.

SUPPLEMENTARY INFORMATION: Throughout this document, whenever “we”, “us” or “our” is used, we mean EPA.

Background

This notice is an announcement of a finding that we have already made. On January 17, 2018, EPA sent a letter to the Wisconsin Department of Natural Resources stating that the 2017 and 2018 MVEBs contained in the Attainment Demonstration for the 2008 Ozone Standard for Sheboygan County are adequate for transportation conformity purposes. Receipt of these MVEBs was announced on EPA's transportation conformity website, and no comments were submitted. The finding is available at EPA's conformity website: https://www.epa.gov/state-and-local-transportation/adequacy-review-state-implementation-plan-sip-submissions-conformity.

The 2017 and 2018 MVEBs, in tons per day (tpd), for VOCs and NOX for the Sheboygan County, Wisconsin area are as follows:

Sheboygan County | NOX (tpd) | VOCs (tpd)
2017 | 1.62 | 3.29
2018 | 1.49 | 2.96

Transportation conformity is required by section 176(c) of the Clean Air Act. EPA's conformity rule requires that transportation plans, programs, and projects conform to state air quality implementation plans and establishes the criteria and procedures for determining whether or not they do conform. Conformity to a State Implementation Plan (SIP) means that transportation activities will not produce new air quality violations, worsen existing violations, or delay timely attainment of the national ambient air quality standards.

The criteria by which we determine whether a SIP's MVEBs are adequate for transportation conformity purposes are outlined in 40 CFR 93.118(e)(4). Please note that an adequacy review is separate from EPA's completeness review, and is also a separate action from EPA's evaluation of and decision whether to approve a proposed SIP revision.

Authority: 42 U.S.C. 7401-7671 q.

Dated: March 20, 2018.
Edward H. Chu,
Acting Regional Administrator, Region 5.

[FR Doc. 2018-06793 Filed 4-4-18; 8:45 am]

BILLING CODE 6560-50-P